DEPARTMENT OF TRANSPORTATION

Federal Aviation Administration

14 CFR Part 39

[Docket No. 2000-NM-90-AD]

RIN 2120-AA64

Airworthiness Directives; Bombardier Model DHC-7-100, and DHC-8-100, -200, and -300 Series Airplanes

AGENCY: Federal Aviation Administration, DOT.

ACTION: Notice of proposed rulemaking (NPRM).

SUMMARY: This document proposes the adoption of a new airworthiness directive (AD) that is applicable to all Bombardier Model DHC-7-100, and DHC-8-100, -200, and -300 series airplanes. This proposal would require a one-time inspection of maintenance records to determine the method used during the most recent weight and balance check of the airplane and, if necessary, accomplishment of a weight and balance check. This proposal is prompted by issuance of mandatory continuing airworthiness information by a foreign civil airworthiness authority. The actions specified by the proposed AD are intended to prevent unusual handling characteristics and consequent reduced controllability during ground operations due to incorrect methods of weighing and balancing the airplane.

DATES: Comments must be received by May 30, 2000.

ADDRESSES: Submit comments in triplicate to the Federal Aviation Administration (FAA), Transport Airplane Directorate, ANM-114, Attention: Rules Docket No. 2000-NM-90-AD, 1601 Lind Avenue, SW., Renton, Washington 98055-4056. Comments may be inspected at this location between 9:00 a.m. and 3:00 p.m., Monday through Friday, except Federal holidays.

The service information referenced in the proposed rule may be obtained from Bombardier, Inc., Canadair, Aerospace Group, P.O. Box 6087, Centre-ville, Montreal, Quebec H3C 3G9, Canada. This information may be examined at the FAA, Transport Airplane Directorate, 1601 Lind Avenue, SW., Renton, Washington; or at the FAA, Engine and Propeller Directorate, New York Aircraft Certification Office, 10 Fifth Street, Third Floor, Valley Stream, New York.

FOR FURTHER INFORMATION CONTACT: James E. Delisio, Aerospace Engineer, Airframe and Propulsion Branch, ANE-171, FAA, Engine and Propeller Directorate, New York Aircraft Certification Office, 10 Fifth Street, Third Floor, Valley Stream, New York 11581; telephone (516) 256-7521; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule.

The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-90-AD.” The postcard will be date stamped and returned to the commenter.

Availability of NPRMs

Any person may obtain a copy of this NPRM by submitting a request to the FAA, Transport Airplane Directorate, ANM-114, Attention: Rules Docket No. 2000-NM-90-AD, 1601 Lind Avenue, SW., Renton, Washington 98055-4056.

Discussion

Transport Canada Civil Aviation (TCCA), which is the airworthiness authority for Canada, notified the FAA that an unsafe condition may exist on all Bombardier Model DHC-7-100, and all Model DHC-8-100, -200, and -300 series airplanes. TCCA advises that it has received reports of airplanes having unusual handling characteristics during ground operations. Investigation into the occurrences revealed discrepancies between the actual center of gravity (CG) of the airplane and the recorded CG in the airplane's maintenance records. All of the airplanes involved had, since delivery from the manufacturer, accomplished a weight and balance check using wing jacks. Further investigation conducted by the manufacturer (Bombardier) revealed that, for high wing airplanes, the use of wing jacks can result in CG errors as large as 2 to 3 percent of the mean aerodynamic chord (MAC). Such errors could result in unusual handling characteristics and consequent reduced controllability during ground operations.

Explanation of Relevant Service Information

The manufacturer has issued de Havilland Weight and Balance Manuals, as follows:

• PSM 1-7-8, Issue 1, dated November 1978 (For Model DHC-7-100 series airplanes).

• PSM 1-7C-8, Issue 1, dated November 1978 (For Model DHC-7-101 series airplanes).

• PSM 1-71-8, Issue 2, dated February 1982 (For Model DHC-7-102 series airplanes).

• PSM 1-71C-8, Issue 1, dated November 1979 (For Model DHC-7-103 series airplanes).

• PSM 1-8-8, Issue 3, dated March 1996 (For Model DHC-8-100 series airplanes).

• PSM 1-82-8, Issue 2, dated March 1996 (For Model DHC-8-200 series airplanes).

• PSM 1-83-8, Issue 3, dated March 1996 (For Model DHC-8-300 series airplanes).

The de Havilland Weight and Balance Manuals describe specific methods for weighing and balancing the airplane to ensure the proper CG for the airplane. The methods involve using platform scales or bottle neck jacks at the undercarriage jacking points, and specifically recommend NOT using wing jacks. TCCA classified this service information as mandatory and issued Canadian airworthiness directive CF-98-32R1, dated March 11, 1999, in order to assure the continued airworthiness of these airplanes in Canada.

FAA's Conclusions

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require a one-time inspection of the maintenance records to determine the method used during the most recent weight and balance check of the airplane and, if necessary, accomplishment of a weight and balance check. The actions would be required to be accomplished in accordance with the service information described previously.

Differences Between Proposed Rule and Foreign Airworthiness Directive

The proposed AD would differ from the parallel Canadian airworthiness directive in that it would require the inspection of the maintenance records within 60 days after the effective date of this AD. The parallel Canadian airworthiness directive recommends the inspection within 1 year after the effective date of that AD. In developing an appropriate compliance time for this AD, the FAA considered not only TCCA's recommendation, but the degree of urgency associated with addressing the subject unsafe condition, and the average utilization of the affected fleet. In light of these factors, the FAA finds a 60-day compliance time for performing the inspection actions to be warranted, in that it represents an appropriate interval of time allowable for affected airplanes to continue to operate without compromising safety.

Cost Impact

The FAA estimates that 207 series airplanes of U.S. registry would be affected by this proposed AD, and that it would take approximately 1 work hour per airplane to accomplish the proposed inspection, at an average labor rate of $60 per work hour. Based on these figures, the cost impact of the proposed AD on U.S. operators is estimated to be $12,420, or $60 per airplane.

The cost impact figure discussed above is based on assumptions that no operator has yet accomplished any of the proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier Inc. (Formerly de Havilland, Inc.): Docket 2000-NM-90-AD.

Applicability: All Model DHC-7-100 series airplanes and all Model DHC-8-100, -200, and -300 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent unusual handling characteristics and consequent reduced controllability during ground operations due to incorrect methods of weighing and balancing the airplane, accomplish the following:

(a) Within 60 days after the effective date of this AD, perform a one-time inspection of maintenance records to determine the method used during the most recent weight and balance check of the airplane.

(1) If the maintenance records indicate that platform scales or bottle jacks at the undercarriage jacking points were used during the most recent weight and balance check, no further action is required by this AD.

(2) If the maintenance records indicate that wing jacks were used during the most recent weight and balance check, or if the maintenance records do not verify the use of platform scales or bottle jacks at the undercarriage jacking points, prior to further flight, accomplish a weight and balance check of the airplane in accordance with the applicable de Havilland Weight and Balance Manual procedures specified in paragraph (a)(2)(i), (a)(2)(ii), (a)(2)(iii), (a)(2)(iv), (a)(2)(v), (a)(2)(vi), or (a)(2)(vii), of this AD.

(i) For Model DHC-7-100 series airplanes: Accomplish the actions in accordance with de Havilland Weight and Balance Manual PSM 1-7-8, Issue 1, dated November 1978.

(ii) For Model DHC-7-101 series airplanes: Accomplish the actions in accordance with de Havilland Weight and Balance Manual PSM 1-7C-8, Issue 1, dated November 1978.

(iii) For Model DHC-7-102 series airplanes: Accomplish the actions in accordance with de Havilland Weight and Balance Manual PSM 1-71-8, Issue 2, dated February 1982.

(iv) For Model DHC-7-103 series airplanes: Accomplish the actions in accordance with de Havilland Weight and Balance Manual PSM 1-71C-8, Issue 1, dated November 1979.

(v) For Model DHC-8-100 series airplanes: Accomplish the actions in accordance with de Havilland Weight and Balance Manual PSM 1-8-8, Issue 3, dated March 1996.

(vi) For Model DHC-8-200 series airplanes: Accomplish the actions in accordance with de Havilland Weight and Balance Manual PSM 1-82-8, Issue 2, dated March 1996.

(vii) For Model DHC-8-300 series airplanes: Accomplish the actions in accordance with de Havilland Weight and Balance Manual PSM 1-83-8, Issue 3, dated March 1996.

Alternative Methods of Compliance

(b) An alternative method of compliance or adjustment of the compliance time that provides an acceptable level of safety may be used if approved by the Manager, New York Aircraft Certification Office (ACO), FAA, Engine and Propeller Directorate. Operators shall submit their requests through an appropriate FAA Principal Maintenance Inspector, who may add comments and then send it to the Manager, New York ACO.

Note 2: Information concerning the existence of approved alternative methods of compliance with this AD, if any, may be obtained from the New York ACO.

Special Flight Permits

(c) Special flight permits may be issued in accordance with sections 21.197 and 21.199 of the Federal Aviation Regulations (14 CFR 21.197 and 21.199) to operate the airplane to a location where the requirements of this AD can be accomplished.

Note 3: The subject of this AD is addressed in Canadian airworthiness directive CF-98-32R1, dated March 11, 1999.

Issued in Renton, Washington, on April 24, 2000.
Donald L. Riggin,
Acting Manager, Transport Airplane Directorate, Aircraft Certification Service.

[FR Doc. 00-10671 Filed 4-27-00; 8:45 am]

BILLING CODE 4910-13-P